DEPARTMENT OF COMMERCE

National Institute of Standards and Technology

National Advanced Spectrum and Communications Test Network: LTE Impacts to Aeronautical Mobile Telemetry and LTE Waveform Measurement

AGENCY: National Institute of Standards and Technology, Department of Commerce.

ACTION: Announcement of meeting.

SUMMARY: The National Advanced Spectrum and Communications Test Network (NASCTN) is hosting a public meeting on LTE impacts to Aeronautical Mobile Telemetry (AMT) as well as field and laboratory LTE waveform measurement on May 12, 2021 at 10:00 a.m.-12:30 p.m. Mountain Daylight Time. The purpose of this meeting is to bring together federal, industry, and academic stakeholders; to disseminate NASCTN's findings; and to share information.

DATES: The NASCTN meeting on LTE Impacts to AMT and LTE Waveform Measurement will take place on May 12, 2021 at 10:00 a.m.-12:30 p.m. Mountain Daylight Time.

ADDRESSES: The meeting will be held via web conference. For instructions on how to participate in the meeting, please see the SUPPLEMENTARY INFORMATION section of this notice.

FOR FURTHER INFORMATION CONTACT: Matt Briel at matthew.briel@nist.gov or 303-908-2747.

SUPPLEMENTARY INFORMATION: The National Advanced Spectrum and Communications Test Network (NASCTN) is hosting a public meeting on LTE impacts to AMT as well as field and laboratory LTE waveform measurement on May 12, 2021 at 10:00 a.m.-12:30 p.m. MDT. The purpose of this meeting is to bring together federal, industry, and academic stakeholders; to disseminate NASCTN's findings; and to share information.

This project builds on and extends a previous NASCTN project that measured the out-of-band (OoB) LTE evolved Node B (eNB) and User Equipment AWS-3 emissions into adjacent L and S frequency bands of AMT systems. While the previous test measured general LTE OoB emissions, this project specifically measures the impact to AMT systems. Results can be used to improve testing protocols that protect existing federal systems during new cellular deployments. More information about this project can be found on our website: https://www.nist.gov/programs-projects/aws-3-lte-impacts-amt.

Individuals and representatives of organizations who would like to ask questions or offer suggestions related to the test are invited to request a place on the agenda. Approximately fifteen minutes will be reserved for public comments and speaking times will be assigned on a first-come, first-served basis. Public comments can be provided via email or by web conference attendance. The amount of time per speaker will be determined by the number of requests received. All those wishing to speak must submit their request by email to matthew.briel@nist.gov by 5:00 p.m. Mountain Daylight Time, May 10, 2021. Speakers who wish to expand upon their oral statements, those who wish to speak but cannot be accommodated on the agenda, and those who are unable to attend are invited to submit written statements electronically by email to matthew.briel@nist.gov.

Anyone wishing to attend this meeting via web conference must register by 5:00 p.m. Mountain Daylight Time, May 10, 2021. Please submit your full name, email address, and phone number to Matt Briel at matthew.briel@nist.gov.

Authority: 15 U.S.C. 272.

Alicia Chambers,
NIST Executive Secretariat.

[FR Doc. 2021-09410 Filed 5-4-21; 8:45 am]

BILLING CODE 3510-13-P